COMMISSION ON CIVIL RIGHTS

Notice of Public Meeting of the Arizona Advisory Committee

AGENCY: U.S. Commission on Civil Rights.

ACTION: Announcement of virtual business meeting.

SUMMARY: Notice is hereby given, pursuant to the provisions of the rules and regulations of the U.S. Commission on Civil Rights (Commission) and the Federal Advisory Committee Act (FACA) that a virtual business meeting of the Arizona Advisory Committee (Committee) to the U.S. Commission on Civil Right will convene via ZoomGov on Friday, September 27, 2024, from 1:00 p.m.-2:30 p.m. Arizona Time. The purpose of the meeting is to review drafts of their report examining the racial and/or ethnic disparities in access to pediatric health care.

DATES: The meeting will take place on: Meeting 4: Friday, September 27, 2024, from 1:00 p.m.-2:30 p.m. Arizona Time.

ADDRESSES:

Webinar Zoom Link to Join (Audio/Visual): https://www.zoomgov.com/webinar/register/WN_e21QK26lTHuzeQDD.

Telephone (Audio Only) Dial: 1-833-435-1820 (US Toll-free); Webinar ID: 161 285 0979.

FOR FURTHER INFORMATION CONTACT: Ana Fortes, DFO, at afortes@usccr.gov or (202) 681-0857.

SUPPLEMENTARY INFORMATION: Committee meetings are available to the public through the videoconference link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Closed captioning will be available for individuals who are deaf, hard of hearing, or who have certain cognitive or learning impairments. To request additional accommodations, please email Angelica Trevino, Support Services Specialist, at atrevino@usccr.gov at least 10 business days prior to the meeting.

Members of the public are entitled to make comments during the open period at the end of the meeting. Members of the public may also submit written comments; the comments must be received in the Regional Programs Unit within 30 days following the meeting. Written comments can be sent via email to Ana Fortes (DFO) at afortes@usccr.gov.

Records generated from this meeting may be inspected and reproduced at the Regional Programs Coordination Unit Office, as they become available, both before and after the meeting. Records of the meetings will be available via www.facadatabase.gov under the Commission on Civil Rights, Arizona Advisory Committee link. Persons interested in the work of this Committee are directed to the Commission's website, http://www.usccr.gov, or may contact the Regional Programs Coordination Unit at atrevino@usccr.gov.

Agenda

I. Welcome, Roll Call, and Announcements

II. Review Draft Report

III. Public Comment

IV. Adjournment

Dated: June 11, 2024.
David Mussatt,
Supervisory Chief, Regional Programs Unit.

[FR Doc. 2024-13157 Filed 6-13-24; 8:45 am]

BILLING CODE P